DEPARTMENT OF STATE

[Public Notice 4332]

Bureau of Educational and Cultural Affairs Request for Grant Proposals for a Project To Support Training in Public Administration and Public Policy Development in Montenegro

SUMMARY: The Office of Global Educational Programs of the Bureau of Educational and Cultural Affairs announces an open competition for a project to support training in public administration and public policy development in Montenegro. Public and private non-profit organizations meeting the provisions described in Internal Revenue Code section 26 U.S.C. 501(c)(3) may submit proposals to train faculty, students, administrators, public officials, and other practitioners in this field. Applicants are encouraged to propose creative strategies to target the training needs of current and future public administrators and policy-makers in Montenegro within the general guidelines provided in this document. Applicants are also invited to propose one or more partner institution(s) in Montenegro with which to cooperate in project implementation, and should explain why each institutional partner is appropriate to the objectives of the project.

¹⁴ 17 CFR 200.30-3(a)(12).

Program Information

Overview: The project will support training in public administration and public policy development for current and future public administrators and policy-makers in Montenegro. One grant will be awarded in an amount not to exceed approximately $270,000 for a period of up to three years to support this training effort through exchanges of faculty, students, non-government organization representatives, public administrators, or public officials. Activities may include any appropriate combination of teaching, consultation, study, distance education, and outreach.

The fundamental objective of the project is to provide participants in Montenegro with skills in public administration and public policy development with an emphasis on practical training for local government administration. The project should provide program participants from Montenegro with the necessary tools to strengthen Montenegro's managerial capacity and its decision-making processes, especially at the local level.

Applicants may propose to pursue this objective in ways that reflect their own institutional strengths as well as the interests, needs, and capacities of the institutional partner(s) in Montenegro. For example, applicants may propose to develop a curriculum in public administration and public policy development and to design and organize in-service training workshops for currently employed administrators and officials based on the curriculum and related training materials. Applicants may also propose to develop curriculum, materials, and training for students preparing for careers as public servants and administrators or as policy analysts and policy developers. Other project designs and emphases may also be proposed. Applicants are invited to propose appropriate topics based on consultations with their counterparts in Montenegro and their knowledge of local needs. Topics of potential interest include decentralization, resource allocation strategies, anti-corruption practices, transparency in government, financial management and control, budgeting and accounting, procurement, organizational development, local government management, taxation, and strategic planning.

U.S. Institution and Participant Eligibility

In the United States, participation in the program is open to accredited colleges and universities as well as other organizations meeting the provisions described in IRS regulation 26 CFR 1.501(c). Applications from consortia or other combinations of U.S. colleges and universities are eligible. The lead U.S. organization in the consortium or other combination of cooperating institutions is responsible for submitting the application. Each application must document the lead organization's authority to represent all U.S. cooperating partners.

Participants who are traveling under the Bureau's grant funds may include teachers, researchers, public administration practitioners, public officials, advanced students who are teaching or research assistants, and educational administrators.

Foreign Institutional and Participant Eligibility

The applicant is invited to propose a university or one or more other not-for-profit entities in Montenegro that are willing to serve as the institutional partner for this project. Secondary foreign partners may include relevant governmental and non-governmental organizations, as well as non-profit service, educational, or professional organizations concerned with issues in public administration training. The program must comply with J-1 visa regulations. Please refer to Solicitation Package for further information.

If the proposed project would occur within the context of a previous or ongoing project, the proposal should explain how the request for Bureau funding would build on the current or prior relationship or complement previous and concurrent projects, which must be listed and described with details about the amounts and sources of external support. Previous projects should be described in the proposal, and the results of the evaluation of previous cooperative efforts should be summarized.

Budget Guidelines

The Bureau anticipates awarding one grant not to exceed approximately $270,000 under this grant competition. Bureau grant guidelines require that organizations with less than four years experience in conducting international exchanges be limited to $60,000 in Bureau funding; therefore, organizations that can not demonstrate at least four years experience in conducting international exchanges are ineligible to apply under this competition.

Applicants must submit a comprehensive budget for the entire project. There must be a summary budget as well as breakdowns reflecting both administrative and program budgets. Applicants may provide separate sub-budgets for each program component, phase, location, or activity to provide clarification. Funds will be awarded for a period up to three years to defray the costs of exchanges, to provide educational materials, to increase library holdings, to develop workshops for public managers and to improve Internet connections. Administrative costs should be reasonable and should be kept to the lowest possible level without jeopardizing the effectiveness of project administration and oversight. Please refer to the Solicitation Package for complete budget guidelines and formatting instructions.

Announcement Title and Number: All correspondence with the Bureau concerning this RFGP should reference the above title and number ECA/A/S/U-03-19.

FOR FURTHER INFORMATION CONTACT: Contact the Humphrey Fellowships and Institutional Linkages Branch, Office of Global Educational Programs, Bureau of Educational and Cultural Affairs; ECA/A/S/U, Room 349, SA-44; U.S. Department of State, 301 4th Street, SW., Washington, DC 20547, phone (202) 260-6797, fax: (202) 401-1433, e-mail: murbina@pd.state.gov to request a Solicitation Package. The Solicitation Package contains detailed award criteria, required application forms, specific budget instructions, and standard guidelines for proposal preparation. Please specify Bureau Program Officer Maria Urbina on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

Deadline for Proposals

All proposal copies must be received at the Bureau of Educational and Cultural Affairs by 5 p.m. Washington, DC time on Friday, May 30, 2003. Faxed documents will not be accepted at any time. Documents postmarked the due date but received on a later date will not be accepted. Each applicant must ensure that the proposals are received by the above deadline.

Applicants must follow all instructions in the Solicitation Package. The original and 8 copies of the application should be sent to: U.S. Department of State, SA-44, Bureau of Educational and Cultural Affairs, Ref.: ECA/A/S/U 03-19, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs Section at the US Embassy in Belgrade and to the Branch Public Affairs Section in Podgorica for their review, with the goal of reducing the time it takes to include these comments in the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements.

The Grantee organization will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547. Telephone: (202) 401-9810. FAX: (202) 401-9809.

Review Process

The Bureau will acknowledge receipt of all proposals and will review them for technical eligibility. Proposals will be deemed ineligible if they do not fully adhere to the guidelines stated herein and in the Solicitation Package. All eligible proposals will be reviewed by the program office, as well as the public diplomacy section of the U.S. Embassy in Belgrade including the branch office in Podgorica. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for an assistance grant award resides with the Bureau's Grants Officer.

Review Criteria

Technically eligible applications will be competitively reviewed according to the criteria stated below. These criteria are not rank ordered and all carry equal weight in the proposal evaluation:

(1) Broad and Enduring Significance of Project Objectives

Project objectives should have significant and ongoing results for the participating institutions and for the surrounding communities by providing a deepened understanding of critical issues in public administration in Montenegro. Proposals should exhibit originality, substance, precision, and relevance to the Bureau's mission.

(2) Creativity and Feasibility of Strategy To Achieve Project Objectives

Strategies to achieve project objectives should be feasible and relevant to the transition process in the public sector of Montenegro and should be realistic within the projected budget and timeframe. A detailed agenda and relevant work plan should demonstrate substantive undertakings and logistical capacity. The agenda and plan should be consistent with project objectives.

(3) Institutional Commitment to Cooperation

The proposed project should demonstrate significant understanding of the institutional and training needs and capacities of the partner institutions in Montenegro together with a strong commitment of the partner institutions, during and after the period of grant activity, to cooperate with one another in the mutual pursuit of institutional objectives.

(4) Project Impact

The proposed project should demonstrate significant potential long-term impact on public administration practices in Montenegro.

(5) Support of Diversity

Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies which they represent (see the section of this document on “Diversity, Freedom and Democracy Guidelines”). Proposals should also discuss how the various institutional partners approach diversity issues in their respective communities or societies.

(6) Project Evaluation

Proposals should include a plan and methodology to evaluate the degree to which project objectives have been addressed, both while the project is underway and at its conclusion. The final project evaluation should include an external evaluation component and should provide observations about the project's influence within the participating institutions as well as the surrounding communities.

(7) Cost-effectiveness

Administrative and program costs should be reasonable and appropriate with cost sharing provided by all participating institutions within the context of their respective capacities. We view cost sharing as a reflection of institutional commitment to the project.

Authority

Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. The funding authority for the program cited above is provided through the Support for East European Democracies (SEED) Act of 1989.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 3, 2003.
Patricia S. Harrison,
Assistant Secretary for Educational and Cultural Affairs, Department of State.

[FR Doc. 03-8840 Filed 4-9-03; 8:45 am]

BILLING CODE 4710-05-P